DEPARTMENT OF THE TREASURY

Submission for OMB Review; Comment Request

September 27, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 5, 2001 to be assured of consideration.

Departmental Offices/Office of Foreign Assets Control

OMB Number: 1505-0164.

Form Number: TD F 90-22.50.

Type of Review: Extension.

Title: Reporting and Procedures Regulations 31 CFR Part 501.

Description: Submissions will provide the U.S. Government with information to be used in enforcing various economic sanctions programs administered by the Office of Foreign Assets Control (OFAC) under 31 CFR Part 501.

Respondents: Business or other for-profit, Individuals or households, Not-for-profit institutions, Federal Government.

Estimated Number of Respondents/Recordkeepers: 13,125.

Estimated Burden Hours Per Respondent/Recordkeeper: 1 hour, 15 minutes.

Frequency of Response: On occasion, Annually.

Estimated Total Reporting/Recordkeeping Burden: 26,250 hours.

OMB Number: 1505-0177.

Form Number: None.

Type of Review: Extension.

Title: Procedures for Payments to Persons Who Hold Certain Categories of Judgments Against Cuba or Iran.

Description: Submissions will provide the U.S. Government with information to be used in determining the eligibility of an applicant under Sec. 2002 of Public Law No. 106-386 (The Victims of Trafficking and Violence Protection Act of 2000) and to complete processing of payments under Sec. 2002.

Respondents: Individuals or households.

Estimated Number of Respondents: 20.

Estimated Burden Hours Per Respondent: 12 hours.

Frequency of Response: On occasion.

Estimated Total Reporting Burden: 240 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports Management Officer.

[FR Doc. 01-24881 Filed 10-3-01; 8:45 am]

BILLING CODE 4810-25-P